FEDERAL MARITIME COMMISSION

Sunshine Act Meetings; Correction

AGENCY: Federal Maritime Commission

ACTION: Notice; correction.

SUMMARY: The Federal Maritime Commission published a document in the Federal Register of January 19, 2023, concerning the Sunshine Act Meetings for our January 25, 2023, Commission Meeting. The January 19, 2023, document contained an incorrect agenda item #1.

FOR FURTHER INFORMATION CONTACT: William Cody, 202-523-5725.

SUPPLEMENTARY INFORMATION:

Correction

In the Federal Register of January 19, 2023, FR Doc. 2023-01086, on page 3413, item #1; titled “1. Commissioner Bentzel, Update on Maritime Transportation Data Initiative” should be removed. Further, item #2, and item #3; titled “2. Staff Briefing on Ocean Shipping Reform Act of 2022” and “3. Staff Briefing, Economic and Competition Update” should be renumbered as item #1 “1. Staff Briefing on Ocean Shipping Reform Act of 2022” and item #2 titled “2. Staff Briefing, Economic and Competition Update”.

Dated: January 24, 2023.
William Cody,
Secretary.

[FR Doc. 2023-01717 Filed 1-25-23; 4:15 pm]

BILLING CODE 6730-02-P